DEPARTMENT OF EDUCATION

[Docket ID ED-2012-OESE-0009]

Request for Information To Gather Technical Expertise Pertaining to the Disaggregation of Asian and Native Hawaiian and Other Pacific Islander Student Data and the Use of Those Data in Planning and Programmatic Endeavors

AGENCY: Office of Elementary and Secondary Education, Department of Education.

ACTION: Request for Information.

SUMMARY: The U.S. Department of Education (the Department) is seeking to gather and share information about practices and policies regarding existing education data systems that disaggregate data on subgroups within the Asian and Native Hawaiian or Other Pacific Island (ANHPI) student population. The Department anticipates making use of this information to help State educational agencies (SEAs), local educational agencies (LEAs), schools, and institutions of higher education (IHEs) identify, share, and implement promising practices and policies for identifying and overcoming challenges to gathering and disaggregating data on subgroups within the ANHPI student population. SEAs, LEAs, schools, and IHEs might then use those data to improve their ability to respond to the unique needs and issues that might exist for these subgroups.

The Department is issuing this request for information (RFI) to collect information about promising practices and policies regarding existing education data systems and models that disaggregate data on subgroups within the ANHPI student population. The Department poses a series of questions to which we invite interested members of the public, including experts and data collection practitioners, to respond. The Department will publish a document that contains a summary of the recommendations that we will develop using information obtained as a result of the RFI and through other outreach efforts.

This RFI has no effect on the existing Federal data collection and aggregate reporting requirements for racial and ethnic data by educational agencies and institutions. The Department is not considering modifying its racial and ethnic data collection and reporting requirements set forth in its 2007 Final Guidance on Maintaining, Collecting, and Reporting Racial and Ethnic Data to the U.S. Department of Education (2007 Guidance), 72 FR 59266 (October 19, 2007). http://www2.ed.gov/legislation/FedRegister/other/2007-4/101907c.html.

DATES: Written submissions must be received by the Department on or before July 3, 2012.

ADDRESSES: Submit your comments through the Federal eRulemaking Portal or via U.S. mail, commercial delivery, or hand delivery. We will not accept comments by fax or by email. To ensure that we do not receive duplicate copies, please submit your comments only one time. In addition, please include the Docket ID and the term “Data Disaggregation Response” at the top of your comments.

• Federal eRulemaking Portal: Go to www.regulations.gov to submit your comments electronically. Information on using Regulations.gov, including instructions for accessing agency documents, submitting comments, and viewing the docket, is available on the site under “How to Use This Site.”

• U.S. Mail, Commercial Delivery, or Hand Delivery: If you mail or deliver your comments, address them to Donald Yu, Attention: ANHPI Student Data Disaggregation RFI, U.S. Department of Education, 400 Maryland Avenue SW., room 7C157, Washington, DC 20202-6132.

• Privacy Note: The Department's policy for comments received from members of the public (including comments submitted by mail, commercial delivery, or hand delivery) is to make these submissions available for public viewing in their entirety on the Federal eRulemaking Portal at www.regulations.gov. Therefore, commenters should be careful to include in their comments only information that they wish to make publicly available on the Internet.

Given the subject matter, some comments may include proprietary information as it relates to confidential commercial information. The Freedom of Information Act defines “confidential commercial information” as information the disclosure of which could reasonably be expected to cause substantial competitive harm. You may wish to request that we not disclose what you regard as confidential commercial information.

To assist us in making a determination on your request, we encourage you to identify any specific information in your comments that you consider confidential commercial information. Please list the information by page and paragraph numbers.

While this RFI is seeking to gather information related to policies and practices, you should still make certain your comments do not include disclosures of personally identifiable information from students' education records in a manner that violates the Family Educational Rights and Privacy Act of 1974 (FERPA).

FOR FURTHER INFORMATION CONTACT: Donald Yu, U.S. Department of Education, 400 Maryland Avenue SW., Room 3W104, Washington, DC 20202-6132 by phone at 202-205-4499.

If you use a telecommunications device for the deaf (TDD), call the Federal Relay Service (FRS), toll free, at 1-(800) 877-8339.

SUPPLEMENTARY INFORMATION:

1. Introduction

The Department is seeking information on disaggregation practices that SEAs, LEAs, schools, and IHEs use when collecting and reporting data on Asians and Native Hawaiians or Other Pacific Islanders.¹ This is a request for information only. This RFI is specifically inquiring about examples of: (1) Existing data systems and models that disaggregate data on subgroups within the ANHPI student population; (2) the categories for which these systems and models disaggregate data by ANHPI subgroup, including, but not necessarily limited to, languages spoken, English language proficiency, and graduation rates; (3) the challenges that administrators of those systems and models have encountered in gathering high-quality disaggregated data on subgroups within the ANHPI student population, and the actions they have taken to overcome those challenges; and (4) how educational agencies or institutions have used, or are using, disaggregated data on ANHPIs to improve their ability to identify and respond to unique educational needs and issues of those populations.

¹ OMB defines “Asian” as a person having origins in any of the original peoples of the Far East, Southeast Asia, or the Indian subcontinent including, for example, Cambodia, China, India, Japan, Korea, Malaysia, Pakistan, the Philippine Islands, Thailand, and Vietnam. It includes people who indicate their race as “Asian Indian,” “Chinese,” “Filipino,” “Korean,” “Japanese,” “Vietnamese,” and “Other Asian” or provide other detailed Asian responses. “Native Hawaiian or Other Pacific Islander” is defined as a person having origins in any of the original peoples of Hawaii, Guam, Samoa, or other Pacific Islands. It includes people who indicate their race as “Native Hawaiian,” “Guamanian or Chamorro,” “Samoan,” and “Other Pacific Islander” or provide other detailed Pacific Islander responses.

This RFI has no effect on the existing Federal data collection and aggregate reporting requirements for racial and ethnic data by educational agencies and institutions. The Department is not considering modifying its racial and ethnic data collection and reporting requirements. The 2007 Guidance sets forth requirements that aim to strike the balance between minimizing the burden for educational agencies and institutions while also ensuring the availability of high-quality racial and ethnic data for carrying out the Department's responsibilities in such areas as civil rights enforcement, program monitoring, the identification and placement of students in special education, research and statistical analyses, and accountability for student achievement. Beyond the Federal collection and reporting requirements, an educational agency or institution has the flexibility to collect data on subcategories of racial and ethnic data for their own educational purposes. In the 2007 Guidance, the Department noted that an educational institution may collect racial and ethnic data on sub-categories of students, so long as the educational institution can aggregate the data into Federal reporting categories. The Department has encouraged educational agencies and institutions to pursue this option if they determine that it would benefit their educational purposes, provided that they can still aggregate the data into the reporting categories required by the Department. Any additional racial and ethnic subcategories may be used by the State or educational institution and are not reported to the Department.

It is with this flexibility in mind that we are publishing this RFI, to learn from and better understand what SEAs, LEAs, schools, and IHEs around the country are doing with regard to collecting racial and ethnic data on sub-categories of students and to make any promising practices available to other educational agencies and institutions that may be interested in adopting similar policies or practices.

This RFI is issued solely for information and planning purposes and is not a request for proposals (RFP) or notice inviting applications (NIA) or a promise to issue an RFP or NIA. This RFI does not commit the Department to contract for any supply or service whatsoever. Further, the Department is not now seeking proposals and will not accept unsolicited proposals. The Department will not pay for any information or administrative costs that you may incur in responding to this RFI.

The documents and information submitted in response to this RFI become the property of the U.S. Government and will not be returned.

2. Background

Disaggregating data on subgroups within the ANHPI student population has long been a priority for some educators, researchers, and advocates. Although data are limited, evidence shows large disparities among ANHPI subgroups in terms of income and educational attainment (Maramba, 2011). For instance, Southeast Asian Americans (SEAAs) have some of the highest poverty rates in the Nation: 37.8 percent of Hmong-Americans, 29.3 percent of Cambodian-Americans, 18.5 percent of Laotian-Americans, and 16.6 percent of Vietnamese-Americans in the United States live in poverty (Reeves and Bennett, 2004; Teranishi, 2010).

In terms of educational attainment, data from the 2010 U.S. Census reveal that 37 percent of Cambodian-Americans, 38 percent of Hmong-Americans, 33 percent of Laotian-Americans, and 29 percent of Vietnamese-Americans over 25 years of age had less than a high school education in 2010, compared with only 5.4 percent of Japanese-Americans and 7 percent of Indonesian-Americans. Additionally, according to the 2010 Census, only 13 percent of Native Hawaiians and Pacific Islanders in the United States 25 years of age and older had at least a bachelor's degree. By contrast, 37.8 percent of Filipino-Americans 25 and older had at least a bachelor's degree. On the issue of limited English language proficiency, 44 percent of Bangladeshi-Americans and 51 percent of Vietnamese-Americans indicated they did not speak English very well (2010 U.S. Census).

Data on the ANHPI student population as a whole, without disaggregation, mask the hidden achievement gaps among subgroups of ANHPI students and creates a need for further disaggregation of educational data among ANHPI student subgroups (Maramba, 2011). Without disaggregated data, educational agencies and institutions might lack the critical and in-depth information they need to identify, target, and effectively address the unique needs of the subgroups of students who are not succeeding.

There could be several applications for disaggregated data. For instance, SEAs, LEAs, schools, and IHEs could use those data to:

• Identify achievement gaps within the population of ANHPI students;

• Ensure that support services are available to the most needy ANHPI subgroups;

• Analyze graduation rates and college enrollment rates for the purpose of making decisions on LEA- and school-level interventions;

• Examine disparities in school discipline; and

• Identify rates of enrollment in rigorous courses (e.g., high-level science, technology, engineering, and mathematics course; honors courses; advanced placement and International Baccalaureate courses).

While this list of potential uses of disaggregated data is not exhaustive, some SEAs, LEAs, schools, and IHEs might be using disaggregated data in innovative ways, and the Department would like to know how this information is being used to improve achievement for ANHPI student subgroups.

The Department has made some progress in revealing hidden achievement gaps among ANHPI subgroups. In 2007, in its Revisions to the Standards for the Classification of Federal Data on Race and Ethnicity, 62 FR 58782 (October 30, 1997), the Department changed the racial and ethnic data reporting requirements that implement the Government-wide standards established by the Office of Management and Budget; www.whitehouse.gov/omb/fedreg/1997standards.html. This change has required educational institutions to report “Asian” data separately from “Native Hawaiian or Other Pacific Islander” data to the Department beginning in school year 2010-11.

In accordance with the 2007 Guidance and for the first time in 2011, the Department's National Center for Education Statistics (NCES) reported data for Asian American students separately from Native Hawaiian and Other Pacific Islander students in the National Assessment of Educational Progress (NAEP) reports. NAEP reports serve as a common metric for all States, providing a clear picture of student academic progress over time. New baseline data from these NAEP reports show that Native Hawaiians and Other Pacific Islanders face achievement gaps typically reported of other minority students.

Further, on October 14, 2009, President Obama signed Executive Order 13515 “Increasing Participation of Asian Americans and Pacific Islanders in Federal Programs” (EO 13515). EO 13515 requires that each participating Federal agency—including the Department—develop a plan for “improv[ing] the quality of life of Asian Americans and Pacific Islanders through increased participation in Federal programs in which Asian Americans and Pacific Islanders may be underserved.”

The Department submitted its plan to the President in October 2010. The plan includes a goal to “identify and highlight three models with potential for replication of how schools and colleges use disaggregated data systems for * * * students to increase attainment and achievement.” The plan further states that “[a]lthough data on educational achievement and attainment are generally disaggregated by major racial and ethnic groups * * *, a lack of further disaggregation * * * masks hidden achievement gaps.”

This RFI is one step the Department is taking to achieve the goal previously described. The RFI seeks information about existing practices and policies about collecting data and its use to improve instructions for ANHPI student subgroups. In addition, we are interested in receiving technical information about these systems, legal obstacles that were encountered and how those obstacles were resolved (including any regulatory solutions), and other information that would help the public understand how these practices and policies for the collection and use of data on subgroups within the ANHPI student population could be implemented by other SEAs, LEAs, schools, and IHEs.

The Department plans to develop a summary of the recommendations drawn from the responses to the RFI that will be used to help inform interested organizations. Further, it is the Department's goal to take what we have learned from the RFI and deliver voluntary technical assistance to SEAs and LEAs.

3. Context for Responses

3.1 The primary goal of this RFI is to gather information related to the disaggregation and use of student data on subgroups within ANHPI student populations, and then to disseminate that information to the public, specifically to SEAs, LEAs, schools, and IHEs. Toward that end, the Department welcomes responses that address SEA, LEA, school, and IHE policies and practices related to the issues discussed in this notice and to applicable Federal, State, and local laws. To help focus our consideration of the responses provided, we have developed several questions. Because the questions are only guides to helping us better understand the issues surrounding ANHPI data disaggregation in various education communities, respondents do not have to respond to any specific question and may provide comments in a format that is most convenient to them. Commenters may also provide relevant information that is not responsive to a particular question but might, nevertheless, be helpful.

3.2 General Questions Regarding Disaggregation of Data on Subgroups within Asian and Native Hawaiian or Other Pacific Islander Student Populations.

3.2.1 Disaggregation Policies and Practices. We would be interested in learning whether your SEA, LEA, school, or IHE has a policy for disaggregating data on ANHPI racial or ethnic subgroups. If you do have such a policy, we would appreciate learning how your educational agency or institution disaggregates the data. For instance, when data for ANHPI student subgroups are disaggregated, what are the specific categories that are used, and why? It would be helpful to know whether the categories are primarily based upon categories used by the U.S. Census, e.g., Asian Indian, Cambodian, Hmong, and Laotian. If not, we would be interested in learning what categories are used and why. We would also find it helpful if commenters could describe the information about ANHPI student subgroups that is most helpful in identifying and addressing the educational needs of these student subgroups, e.g., ethnicity, language, background, gender, etc.

3.2.3 Data Collection and Systems. Please describe how the data are collected. For example, are the data collected through an annual questionnaire or survey given to parents or students? What data systems, such as a statewide longitudinal data system, are currently being used to collect and maintain disaggregated data? What, if anything, had to be changed about your data system in order to collect disaggregated data regarding ANHPI student subgroups?

3.2.4 Effective Use of Disaggregated Data. Has your practice of collecting and using disaggregated data for ANHPI students improved your SEA's, LEA's, school's or IHE's ability to identify and respond to the unique educational needs and issues of ANHPI student subgroups? If so, how? Have specific programs been created or specific interventions been implemented in response to the disaggregated data? Please describe these programs or interventions and how they have targeted specific communities.

3.2.5 Barriers. What barriers or challenges exist that make adoption of these practices and policies at the SEA, LEA, school, or postsecondary levels difficult? Are there common capacity challenges (e.g., training or technology) that SEAs, LEAs, schools, and IHEs might face when disaggregating data on ANHPI student subgroups? Did your SEA, LEA, school, or IHE encounter privacy issues with the smaller subgroups resulting from disaggregating data on the ANHPI student population? What are the general lessons learned from the adoption of these disaggregation practices?

3.2.6 Reporting and Transparency. For SEAs, LEAs, schools, and IHEs that have disaggregated data for ANHPI student subgroups, how are disaggregated data being publicly reported and used? For example, how have the data been used in outreach efforts, curricula development, adaptation of English language proficiency programs, and dropout prevention efforts?

References:

Maramba, D. C. 2011. “The Importance of Critically Disaggregating Data: The Case of Southeast Asian American College Students.” aapi nexus Vol. 9, No. 1&2 (Fall 2011): 127-133.

Reeves, T. J. and C.E. Bennett. 2004. “We the people: Asians in the United States.” Washington, DC: U.S. Census Bureau.

Teranishi, R. T. 2010. Asians in the Ivory Tower: Dilemmas of Racial Inequality in American Higher Education. New York: Teachers College Press.

Accessible Format: Individuals with disabilities can obtain this document in an accessible format, e.g., braille, large print, audiotape, or compact disc, on request to the program contact person listed under FOR FURTHER INFORMATION CONTACT.

Electronic Access to This Document:

The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 1, 2012.
Martha Kanter,
Under Secretary.
Michael Yudin,
Deputy Assistant Secretary for Elementary and Secondary Education.

[FR Doc. 2012-10835 Filed 5-3-12; 8:45 am]

BILLING CODE 4000-01-P